DEPARTMENT OF THE INTERIOR

National Park Service

National Register of Historic Places; Notification of Pending Nominations

Nominations for the following properties being considered for listing in the National Register were received by the National Park Service before October 23, 2004.

Pursuant to section 60.13 of 36 CFR part 60 written comments concerning the significance of these properties under the National Register criteria for evaluation may be forwarded by United States Postal Service, to the National Register of Historic Places, National Park Service, 1849 C Street, NW., 2280, Washington, DC 20240; by all other carriers, National Register of Historic Places, National Park Service, 1201 Eye Street, NW., 8th floor, Washington DC 20005; or by fax, (202) 371-6447. Written or faxed comments should be submitted by December 6, 2004.

Carol D. Shull,
Keeper of the National Register of Historic Places.

Arkansas

Izard County

Missouri Pacific Railroad Depot, (Historic Railroad Depots of Arkansas MPS), Old AR 9, Sylamore, 04001280.

Kansas

Riley County

Runyon, Damon House, 400 Osage St., Manhattan, 04001282.

Maine

Knox County

Strand Theatre, 345 Main St., Rockland, 04001284.

Lincoln County

Clary Mill, 104 Mills Rd., Whitefield, 04001283.

Minnesota

Winona County,

Watkins, J.R., Medical Company, 150 Liberty St., Winona, 04001296.

Missouri

Audrain County

Simmons, Arthur, Stables Historic District, 621 and 701 W. Blvd., Mexico, 04001286.

Cape Girardeau County

Warehouse Row Historic District (Cape Girardeau, Missouri MPS), 19 N. Water St., Cape Girardeau, 04001285.

St. Louis County

Pasadena Hills Historic District, Bounded by the city limits of Pasadena Hills, Pasadena Hills, 04001281.

North Carolina

Durham County

Poland, George, House, 500 John Jones Rd., Bahama, 04001287.

Ohio

Franklin County

Shiloh Baptist Church, 720 Mt. Vernon Ave., Columbus, 04001288.

Pennsylvania

Montgomery County

Lansdale Silk Hosiery Company—Interstate Hosiery Mills, Inc., 200 S. Line St., Lansdale, 04001289.

Texas

Walker County

State Highway 19 Bridge at Trinity River (Historic Bridges of Texas MPS), TX 19, on the Trinity/Walker county line, Riverside, 04001290.

Virginia

Charlottesville Independent City

Memorial Gymnasium, 210 S. Emmett St., Charlottesville (Independent City), 04001291.

Nelson County

Hamner House, 128 Treetop Loop, Schuyler, 04001293.

Richmond Independent City

Ginter Park Terrace Historic District (Streetcar Suburbs in Northside Richmond MPS), 3000 blks of Hawthorne, Noble, Moss Side, Montrose and Edgewood Aves., Richmond (Independent City), 04001292.

Highland Park Plaza Historic District, Roughly bounded by Meadowbridge Rd., Missouri Ave., City limits, and Detroit Ave., Richmond (Independent City), 04001294.

Suffolk Independent City

Suffolk Historic District (Boundary Increase III), Pinner and Central Ave. and W. Washington St., Suffolk (Independent City), 04001295.

[FR Doc. 04-25655 Filed 11-18-04; 8:45 am]

BILLING CODE 4312-51-P